DEPARTMENT OF HEALTH AND HUMAN SERVICES

Centers for Disease Control And Prevention

[60 Day-01-28]

Proposed Data Collections Submitted for Public Comment and Recommendations

In compliance with the requirement of Section 3506 (c)(2)(A) of the Paperwork reduction Act of 1995, the Centers for Disease Control and Prevention (CDC) is providing opportunity for public comment on proposed data collection projects. To request more information on the proposed projects or to obtain a copy of the data collection plans and instruments, call the CDC Reports Clearance Officer at (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne E. O'Connor, CDC Assistant Reports Clearance Officer, 1600 Clifton Road, MS-D24, Atlanta, GA 30333. Written comments should be received within 60 days of this notice.

Proposed Projects: Factors and Strategies that are Effective in Establishing Policy and Environmental Interventions Designed to Promote Good Nutrition and Physical Activity—New—The National Center for Chronic Disease Prevention and Health Promotion (NCCDPHP), Centers for Disease Control and Prevention (CDC), proposes to conduct a study to determine what is needed to implement and sustain policy and environmental interventions to promote physical activity and good nutrition for cardiovascular health. Policy and environmental intervention approaches to promoting physical activity and good nutrition are a new paradigm shift for intervention activities, therefore, research is required to determine what is needed to implement and sustain these types of interventions.

The proposed study will be conducted in three phases. Phase 1 Background Information: A review will be conducted of the literature of national conferences to identify experts in the field of policy and environmental interventions to promote physical activity and good nutrition. Phase 2 Expert Interviews: State representatives, recognized experts, and others will be contacted via telephone to gather detailed information on both successful and promising environmental and policy interventions. Phase 3 Key Informant Interviews: Key informant interviews will be conducted with selected interventions and programs that were indicated in Phases 1 and 2 to identify activities, methods, and lessons learned for their successful implementation. We will summarize and evaluate interview results and disseminate to cardiovascular health funded States to assist in designing policy and environmental interventions to promote physical activity and good nutrition.

The total cost estimate is $ 16,551 over a three-month period.

Respondents | Number of respondents | Responses/ respondent | Average burden of response in hrs. | Total burden (hrs.)
Expert Interviews | 40 | 1 | 15/60 | 10
Key Informant Interviews | 25 | 1 | 30/60 | 12.5
Total |  |  |  | 22.5

Dated: March 28, 2001.
Nancy E. Cheal,
Acting Associate Director for Policy, Planning, and Evaluation Centers for Disease Control and Prevention (CDC).

[FR Doc. 01-8097 Filed 4-2-01; 8:45 am]

BILLING CODE 4163-18-P